DEPARTMENT OF HEALTH AND HUMAN SERVICES

Food and Drug Administration

[Docket No. 2004N-0516]

Agency Information Collection Activities; Announcement of Office of Management and Budget Approval; 2005 Food Safety Survey; Correction

AGENCY: Food and Drug Administration, HHS.

ACTION: Notice; correction.

SUMMARY: The Food and Drug Administration is correcting a notice that appeared in the Federal Register of October 24, 2005 (70 FR 61455). The document announced an approval by the Office of Management and Budget. The document was published with an incorrect expiration date for OMB control number 0910-0345. This document corrects that error.

FOR FURTHER INFORMATION CONTACT: Peggy Robbins, Office of Management Programs (HFA-250), Food and Drug Administration, 5600 Fishers Lane, Rockville, MD 20857, 301-827-1223.

SUPPLEMENTARY INFORMATION: In FR Doc. 05-21157, appearing on page 61455 in the Federal Register of Monday, October 24, 2005, the following correction is made:

1. On page 61455, in the second column, in the SUPPLEMENTARY INFORMATION section, beginning on line 13, the sentence “The approval expires on February 30, 2008.” is corrected to read “The approval expires on February 29, 2008.”

Dated: October 28, 2005.
Jeffrey Shuren,
Assistant Commissioner for Policy.

[FR Doc. 05-21974 Filed 11-3-05; 8:45 am]

BILLING CODE 4160-01-S